DEPARTMENT OF ENERGY

Federal Energy Regulatory Commission

[Docket No. ER01-1423-000, et al.]

Cinergy Services, Inc., et al.; Electric Rate and Corporate Regulation Filings

March 12, 2001.

Take notice that the following filings have been made with the Commission:

1. Cinergy Services, Inc.

[Docket No. ER01-1423-000]

Take notice that on March 7, 2001, Cinergy Services, Inc. (Provider), tendered for filing a Firm Point-to-Point Service Agreement under Cinergy's Open Access Transmission Service Tariff (OATT) entered into between Provider and Cinergy Services, Inc. (Customer) (AREF# 69550214).

This service agreement has a yearly firm transmission service with American Electric Power via the Gibson Unit Nos. 1-5 Generating Station.

Provider and Customer are requesting an effective date of April 1, 2001.

Comment date: March 28, 2001, in accordance with Standard Paragraph E at the end of this notice.

2. Cinergy Services, Inc.

[Docket No. ER01-1424-000]

Take notice that on March 7, 2001, Cinergy Services, Inc. (Cinergy), tendered for filing a Market-Based Service Agreement under Cinergy's Market-Based Power Sales Standard Tariff-MB (the Tariff) entered into between Cinergy and The New Power Company (New Power).

Cinergy and New Power are requesting an effective date of February 1, 2001.

Comment date: March 28, 2001, in accordance with Standard Paragraph E at the end of this notice.

3. Cinergy Services, Inc.

[Docket No. ER01-1425-000]

Take notice that on March 6, 2001, Cinergy Services, Inc. (Cinergy) and PG&E Power Services Company tendered for filing Notice a Cancellation of Service Agreement No. 113, under Cinergy Operating Companies, Resale of Transmission Rights and Ancillary Service Rights, FERC Electric Tariff Original Volume No. 8.

Cinergy requests an effective date of January 1, 2001.

Comment date: March 28, 2001, in accordance with Standard Paragraph E at the end of this notice.

4. Cinergy Services, Inc.

[Docket No. ER01-1426-000]

Take notice that on March 7, 2001, Cinergy Services, Inc. (Provider), tendered for filing a Firm Point-to-Point Service Agreement under Cinergy's Open Access Transmission Service Tariff (OATT) entered into between Provider and Cinergy Services, Inc. (Customer) (AREF# 69550769).

This service agreement has a yearly firm transmission service with Southern Indiana Gas and Electric via the Gibson Unit Nos. 1-5 Generating Station.

Provider and Customer are requesting an effective date of April 1, 2001.

Comment date: March 28, 2001, in accordance with Standard Paragraph E at the end of this notice.

5. Cinergy Services, Inc.

[Docket No. ER01-1427-000]

Take notice that on March 7, 2001, Cinergy Services, Inc. (Provider), tendered for filing a Firm Point-to-Point Service Agreement under Cinergy's Open Access Transmission Service Tariff (OATT) entered into between Provider and Cinergy Services, Inc. (Customer) (AREF# 69550215).

This service agreement has a yearly firm transmission service with American Electric Power via the Gibson Unit Nos. 1-5 Generating Station.

Provider and Customer are requesting an effective date of April 1, 2001.

Comment date: March 28, 2001, in accordance with Standard Paragraph E at the end of this notice.

6. Cinergy Services, Inc.

[Docket No. ER01-1428-000]

Take notice that on March 7, 2001, Cinergy Services, Inc. (Provider), tendered for filing a Firm Point-to-Point Service Agreement under Cinergy's Open Access Transmission Service Tariff (OATT) entered into between Provider and Cinergy Services, Inc. (Customer) (AREF# 69550212).

This service agreement has a yearly firm transmission service with American Electric Power via the Gibson Unit Nos. 1—5 Generating Station.

Provider and Customer are requesting an effective date of April 1, 2001.

Comment date: March 28, 2001, in accordance with Standard Paragraph E at the end of this notice.

7. Cinergy Services, Inc.

[Docket No. ER01-1429-000]

Take notice that on March 7, 2001, Cinergy Services, Inc. (Provider), tendered for filing a Firm Point-to-Point Service Agreement under Cinergy's Open Access Transmission Service Tariff (OATT) entered into between Provider and Cinergy Services, Inc. (Customer) (AREF# 69550213).

This service agreement has a yearly firm transmission service with American Electric Power via the Gibson Unit Nos. 1—5 Generating Station.

Provider and Customer are requesting an effective date of April 1, 2001.

Comment date: March 28, 2001, in accordance with Standard Paragraph E at the end of this notice.

8. PacifiCorp

[Docket No. ER01-1430-000]

Take notice that on March 7, 2001, PacifiCorp tendered for filing in accordance with 18 CFR 35 of the Commission's Rules and Regulations, Umbrella Service Agreements for Non-Firm and Short-Term Firm Transmission Service with Axia Energy, LP, OGE Energy Resources, Inc., and The Energy Authority, Inc. under PacifiCorp's FERC Electric Tariff, Second Revised Volume No. 11 (Tariff).

Copies of this filing were supplied to the Washington Utilities and Transportation Commission and the Public Utility Commission of Oregon.

Comment date: March 28, 2001, in accordance with Standard Paragraph E at the end of this notice.

9. Ameren Services Company

[Docket No. ER01-1431-000]

Take notice that on March 7, 2001, Ameren Services Company (ASC), tendered for filing Service Agreements for Firm Point-to-Point Transmission Service Agreements and Non-Firm Point-to-Point Transmission Service Agreements between ASC and Ameren Energy, FirstEnergy Services Corp., Split Rock Energy LLC and Axia Energy, LP (the parties). ASC asserts that the purpose of the Agreements is to permit ASC to provide transmission service to the parties pursuant to Ameren's Open Access Transmission Tariff.

Comment date: March 28, 2001, in accordance with Standard Paragraph E at the end of this notice.

10. PJM Interconnection, L.L.C.

[Docket No. ER01-1440-000]

Take notice that on March 7, 2001, PJM Interconnection, L.L.C. (PJM), tendered for filing an amendment to the Reliability Assurance Agreement Among Load Serving Entities in the PJM Control Area (RAA).

PJM states that it served a copy of its filing on all parties to the RAA, and each of the state electric regulatory commissions within the PJM control area.

Comment date: March 21, 2001, in accordance with Standard Paragraph E at the end of this notice.

11. American Transmission Company LLC

[Docket No. ER01-1457-000]

Take notice that on March 7, 2001, American Transmission Company LLC (ATCLLC), tendered for filing Short-Term Firm and Non-Firm Point-to-Point Transmission Service Agreements between ATCLLC and WPS Energy Services, Williams Energy Marketing & Trading Company, Upper Peninsula Power Company, and Axia Energy, LP, as well as Short-Term Firm Point-to-Point Transmission Service Agreements between ATCLLC and Southwestern Public Service Company and the Public Service Company of Colorado.

ATCLLC requests an effective date of February 6, 2001.

Comment date: March 28, 2001, in accordance with Standard Paragraph E at the end of this notice.

12. Southwest Power Pool, Inc.

[Docket No. ER01-1458-000]

Take notice that on March 7, 2001, Southwest Power Pool, Inc. (SPP), tendered for filing executed service agreements for Firm Point-to-Point Transmission Service, Non-Firm Point-to-Point Transmission Service, and Loss Compensation Service with McCurtain Energy Associates, LLC and Sequoyah Energy Associates, LLC (collectively, Transmission Customers).

Copies of this filing have been served on the Transmission Customers.

Comment date: March 28, 2001, in accordance with Standard Paragraph E at the end of this notice.

13. Commonwealth Edison Company

[Docket No. ER01-1459-000]

Take notice that on March 7, 2001, Commonwealth Edison Company (ComEd), tendered for filing an executed Service Agreement for Network Integration Transmission Service (NSA) and associated Network Operating Agreement (NOA) between ComEd and the City of Batavia (Batavia) and an executed NSA and associated NOA between ComEd and the City of St. Charles (St. Charles). These executed NSAs and associated NOAs replace the unexecuted NSAs and NOAs between ComEd and the Cities of Batavia and St. Charles that were filed with the Commission in Docket No. ER01-546-000 and accepted for filing by the Commission on January 10, 2001.

ComEd requests an effective date of November 1, 2000 for the executed NSAs and associated NOAs to coincide with the effective date granted the unexecuted NSAs and NOAs that were previously filed with the Commission. Accordingly, ComEd requests waiver of the Commission's notice requirements.

Copies of the filing were served on Batavia and St. Charles.

Comment date: March 28, 2001, in accordance with Standard Paragraph E at the end of this notice.

14. New England Power Pool

[Docket No. ER01-1460-000]

Take notice that on March 5, 2001, the New England Power Pool (NEPOOL), tendered for filing (1) the Seventieth Agreement Amending New England Power Pool Agreement (the Seventieth Agreement), which provides for changes to the Restated NEPOOL Agreement, the Financial Assurance Policy for NEPOOL Participants (the Financial Assurance Policy) and the New England Power Pool Billing Policy (the Billing Policy) related to the proposed effectiveness of ISO New England Inc.'s (the ISO) Tariff for Capital Funding (the CFT) and the proposed third party funding of the ISO's capital expenditures and capitalized project costs, and (2) the Seventy-First Agreement Amending New England Power Pool Agreement (the Seventy-First Agreement), which amends the Financial Assurance Policy and the Billing Policy to create a Late Payment Account that is to be funded by late payment fees collected under the Financial Assurance Policy and that is to be applied to shortfalls resulting from payment defaults. NEPOOL requests that the Seventieth Agreement become effective simultaneously with the effectiveness of the CFT and the applications for the ISO's thirty party financing under Section 204 of the Federal Power Act.

A May 5, 2001 effective date is requested for the Seventy-First Agreement.

The NEPOOL Participants Committee states that copies of these materials were sent to the NEPOOL Participants and the New England state governors and regulatory commissions.

Comment date: March 26, 2001, in accordance with Standard Paragraph E at the end of this notice.

15. West Texas Utilities Company

[Docket No. ER01-1207-001]

Take notice that on March 7, 2001, West Texas Utilities Company (WTU), tendered for filing an amended letter agreement in the above-captioned proceeding to correct an inadvertent error in the text of the letter agreement.

WTU continues to seek an effective date of March 1, 2001 for the letter agreement and, accordingly, requests waiver of the Commission's notice requirements.

Copies of this filing have been served on Rayburn, LG&E Power Marketing, Inc., Tex-La Electric Cooperative of Texas, Inc., and the Public Utility Commission of Texas.

Comment date: March 28, 2001, in accordance with Standard Paragraph E at the end of this notice.

16. Central Illinois Light Company

[Docket No. ER01-775-001]

Take notice that on March 7, 2001, Central Illinois Light Company (CILCO), 300 Liberty Street, Peoria, Illinois 61602, tendered for filing a substitute Notice of Cancellation of its FERC Rate Schedule No. 17, Wholesale Rate MW-6 with the Village of Riverton, Illinois, in compliance with the Commission order issued on February 5, 2001, in the above-referenced docket.

Copies of the filing were served on the Illinois Commerce Commission and the Village of Riverton.

Comment date: March 28, 2001, in accordance with Standard Paragraph E at the end of this notice.

17. Florida Power & Light Company

[Docket No. ER01-874-001]

Take notice that on March 6, 2001, Florida Power & Light Company (FPL), tendered for filing a revision to the January 3, 2001, in compliance with Order No. 614, FERC Stats. & Regs. 31,096 (2000).

Comment date: March 27, 2001, in accordance with Standard Paragraph E at the end of this notice.

18. Central Illinois Light Company

[Docket No. ER01-1137-001]

Take notice that on March 7, 2001, Central Illinois Light Company (CILCO), 300 Liberty Street, Peoria, Illinois 61602, tendered for filing a Substitute Interconnection Agreement with the Village of Riverton.

Copies of the filing were served on the affected customer and the Illinois Commerce Commission.

Comment date: March 28, 2001, in accordance with Standard Paragraph E at the end of this notice.

19. Ameren Services Company

[Docket No. ER00-2362-001]

Take notice that on March 7, 2001, Ameren Services Company (Ameren), tendered for filing a service agreement for network integration transmission service between Ameren and the City of Newton, Illinois, in compliance with the Commission's February 7, 2001 order in the above-referenced proceeding. The sole purpose of the compliance filing is to conform the service agreement to Order No. 614.

Ameren states that a copy of the filing was served on the Illinois Commerce Commission and on all parties to this proceeding.

Comment date: March 28, 2001, in accordance with Standard Paragraph E at the end of this notice.

20. Pacific Gas and Electric Company

[Docket No. ER01-839-001]

Take notice that on March 7, 2001, Pacific Gas and Electric Company (PG&E), tendered for filing corrected tariff sheets to its Transmission Owner (TO) Tariff, FERC Electric Tariff Sixth revised Volume No. 5. These revisions correct the statement of certain rates and revenue requirements accepted for filing in the above-referenced docket.

Copies of this filing were served upon the Public Utilities Commission of the State of California and all interested parties.

Comment date: March 28, 2001, in accordance with Standard Paragraph E at the end of this notice.

21. Progress Energy, Inc., on behalf of Certain of Its Public Utility Subsidiaries

[Docket No. EC01-78-000]

Take notice that on March 6, 2001, Progress Energy, Inc. (Progress), on behalf of Carolina Power & Light Company (CP&L), Progress Genco Ventures, LLC, Progress Energy Ventures, Inc., Richmond County Power, LLC, Monroe Power Company (Monroe), Effingham County Power, LLC, and Rowan County Power, LLC (collectively, Applicants) tendered for filing an application requesting all necessary authorizations under section 203 of the Federal Power Act, 16 U.S.C. 824b (1996), to engage in a corporate reorganization. Applicants also seek authorization for the transfer of Monroe from CP&L to Progress.

Comment date: March 27, 2001, in accordance with Standard Paragraph E at the end of this notice.

22. Dominion Nuclear Holdings, Inc.

[Docket No. EG01-113-000]

Take notice that on March 9, 2001, Dominion Nuclear Holdings, Inc. (DNH) filed with the Federal Energy Regulatory Commission amendments to its application for determination of exempt wholesale generator status pursuant to Part 365 of the Commission's regulations originally filed on February 2, 2001.

DNH is an indirect wholly-owned subsidiary of Dominion Energy, Inc., which is, in turn, a wholly-owned subsidiary of Dominion Resources, Inc. (Dominion), a Virginia corporation. Dominion is a registered holding company under the Public Utility Holding Company Act of 1935 (1935 Act).

DNH owns 5% of the voting securities of Dominion Nuclear Marketing III, L.L.C. (DMN III). An affiliate of DNM III, Dominion Nuclear Connecticut, Inc. (DNC), will acquire, own and operate the Millstone Nuclear Power Station located in Waterford, Connecticut (the Facility). The Facility consists of Millstone Unit 1, a 660-MW reactor that was retired from service in July 1998 and is being decommissioned; Millstone Unit 2, an operating 875-MW reactor; and 93.47% of the ownership interests in Millstone Unit 3, an operating 1,154-MW reactor. DNM III will purchase from DNC, and resell at wholesale, a portion of the power generated by the Facility.

Comment date: March 23, 2001, in accordance with Standard Paragraph E at the end of this notice.

23. FPL Energy Pecos Wind II, LP

[Docket No. EG01-143-000]

Take notice that on March 7, 2001, FPL Energy Pecos Wind II, LP (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 80 MW wind-powered generating facility located in the County of Pecos, Texas. Electric energy produced by the facility will be sold at wholesale or at retail exclusively to foreign consumers.

Comment date: April 2, 2001, in accordance with Standard Paragraph E at the end of this notice. The Commission will limit its consideration of comments to those that concern the adequacy or accuracy of the application.

24. Southern Company-Florida LLC

[Docket No. EG01-144-000]

Take notice that on March 7, 2001, Southern Company—Florida LLC (Applicant), 270 Peachtree Street, Atlanta, Georgia 30303, filed with the Federal Energy Regulatory Commission an application for determination of exempt wholesale generator status pursuant to Part 365 of the Commission's regulations.

Applicant is a Delaware limited liability company that intends to construct, operate, and own an undivided 65 percent interest in a 632 MW generation facility at a site located in Orange County, Florida. Applicant is engaged directly and exclusively in the business of owning or operating, or both owning and operating, all or part of one or more eligible facilities and selling electric energy at wholesale.

Comment date: April 2, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Comments, protests, and interventions may be filed electronically via the internet in lieu of paper. See, 18 CFR 385.2001(a)(1)(iii) and the instructions on the Commission's web site at http://www.ferc.fed.us/efi/doorbell.htm.

David P. Boergers,
Secretary.

[FR Doc. 01-6716 Filed 3-16-01; 8:45 am]

BILLING CODE 6717-01-P